DEPARTMENT OF HOMELAND SECURITY

Coast Guard

[Docket No. USCG-2008-0008]

Houston/Galveston Navigation Safety Advisory Committee

AGENCY: Coast Guard, DHS.

ACTION: Notice of meetings.

SUMMARY: The Houston/Galveston Navigation Safety Advisory Committee (HOGANSAC) and its working groups will meet in Galveston, Texas to discuss waterway improvements, aids to navigation, area projects impacting safety on the Houston Ship Channel, and various other navigation safety matters in the Galveston Bay area. All meetings will be open to the public.

DATES: The next meeting of HOGANSAC will be held on Tuesday, February 26, 2008 from 9 a.m. to 12 p.m. The meeting of the Committee's working groups will be held on Tuesday, February 12, 2008 from 9 a.m. to 12 p.m. These meetings may close early if all business is finished. Written material and requests to make oral presentations should reach the Coast Guard five (5) working days before the meeting at which the presentation will be made. Requests to have a copy of your materials distributed to each member of the committee or working group should reach the Coast Guard at least ten (10) working days before the meeting at which the presentation will be made.

ADDRESSES: The full Committee will meet at Marine Safety Unit Galveston, 2101 FM 2004, Texas City, Texas 77591, (409)-978-2700. The working groups meeting will be held at the Houston Pilots Association, 8150 South Loop East, Houston, Texas 77011-1747, (713)-645-9620. Send written material and requests to make oral presentations to LT Sean Hughes, Assistant to the Executive Secretary of HOGANSAC, 9640 Clinton Drive, Houston, Texas 77029. This notice is available in our online docket, USCG-2008-0008, http://www.regulations.gov.

FOR FURTHER INFORMATION CONTACT: Commander Hal R. Pitts, Executive Secretary of HOGANSAC, telephone (713) 671-5164, e-mail hal.r.pitts@uscg.mil or Lieutenant Sean Hughes, Assistant to the Executive Secretary of HOGANSAC, telephone (713) 678-9001, e-mail sean.p.hughes@uscg.mil. Written materials and requests to make presentations should be sent to Commanding Officer, Sector Houston/Galveston, Attn: LT Hughes.

SUPPLEMENTARY INFORMATION: Notice of these meetings is given pursuant to the Federal Advisory Committee Act, 5 U.S.C. App. (Pub. L. 92-463).

Agendas of the Meetings

Houston/Galveston Navigation Safety Advisory Committee (HOGANSAC). The tentative agenda includes the following:

(1) Opening remarks by the Committee Sponsor (RADM Whitehead) or the Committee Sponsor's representative, Executive Director (CAPT Diehl) and Chairperson (Ms. Tava Foret).

(2) Approval of the 13 September, 2007 and 27 November, 2007 minutes.

(3) Old Business:

(a) Navigation Operations (NAVOPS)/Maritime Incident Review subcommittee report;

(b) Deep Draft Entry Facilitation (DDEF) subcommittee report;

(c) Dredging subcommittee report;

(d) Technology subcommittee report;

(e) Area Maritime Security Committee (AMSC) Liaison's report;

(f) Harbor of Safe Refuge subcommittee report;

(g) HOGANSAC Outreach report;

(h) Maritime Awareness subcommittee report.

(4) New Business:

Working Groups Meeting. The tentative agenda for the working groups meeting includes the following:

(1) Presentation by each working group of its accomplishments and plans for the future;

(2) Review and discuss the work completed by each working group;

(3) Put forth any action items for consideration at full committee meeting.

Procedural

Working groups have been formed to examine the following issues: Dredging and related issues, electronic navigation systems, AtoN knockdowns, impact of passing vessels on moored ships, boater education issues, facilitating deep draft movements, mooring infrastructure, and safe refuge during hurricanes. Not all working groups will provide a report at this session. Further, working group reports may not necessarily include discussions on all issues within the particular working group's area of responsibility.

All meetings are open to the public. Please note that meetings may close early if all business is finished. At the chairs discretion members of the public may make oral presentations during the meetings. Requests to make oral presentations should reach the Coast Guard five (5) working days before the meeting at which the presentation will be made. Written material for distribution at a meeting should reach the Coast Guard no later than ten (10) working days before the meeting at which the presentation will be made. If you would like a copy of your material distributed to each member of the committee in advance of the meetings, please submit your request along with nineteen (19) copies of the materials to the Coast Guard at least ten (10) working days before the meeting at which the presentation will be made.

Information on Services for Individuals With Disabilities

For information on facilities or services for individuals with disabilities or to request special assistance at the meetings, contact the Executive Secretary or Assistant to the Executive Secretary as soon as possible.

Dated: January 14, 2008.
J.H.Korn,
Captain. U.S. Coast Guard Commander, 8th Coast Guard District, Acting.

[FR Doc. E8-1472 Filed 1-28-08; 8:45 am]

BILLING CODE 4910-15-P